FEDERAL COMMUNICATIONS COMMISSION

47 CFR Part 73

[DA No. 01-2627, MM Docket No. 01-31; RM-10035]

Radio Broadcasting Services; Huntsville, La Porte, Nacogdoches and Willis, TX and Lake Charles, LA

AGENCY: Federal Communications Commission.

ACTION: Final rule.

SUMMARY: This document substitutes Channel 279C for Channel 279C3 at Willis, Texas, reallots Channel 279C from Willis, Texas, to La Porte, Texas, and modifies the license for Station KVST(FM) to specify operation on Channel 279C at La Porte in response to a petition filed by New Wavo Communication Group, Inc. See 66 FR 10658, February 16, 2001. The coordinates for Channel 279C at La Porte are 29-58-19 and 94-31-16. We shall also substitute Channel 259A for Channel 259C3 at Huntsville, Texas, reallot Channel 259A to Willis, Texas, and modify the license for Station KUST accordingly. The coordinates for Channel 259A at Willis are 30-32-37 and 95-28-32. To accommodate the allotments at La Porte and Willis, we shall substitute Channel 277C2 for Channel 279C1 at Lake Charles, Louisiana, and modify the license for Station KBIU accordingly at coordinates 30-12-12 and 93-26-19 and substitute Channel 277C2 for Channel 277C1 at Nacogdoches, Texas and modify the license for Station KJCS accordingly at coordinates 31-25-59 and 94-49-19.allot Channel 291A to Refugio, Texas, at coordinates 28-21-58 and 97-19-11.

DATES: Effective December 24, 2001.

FOR FURTHER INFORMATION CONTACT: Kathleen Scheuerle, Mass Media Bureau, (202) 418-2180.

SUPPLEMENTARY INFORMATION: This is a summary of the Commission's Report and Order, MM Docket No. 01-31, adopted October 31, 2001, and released November 9, 2001. The full text of this Commission decision is available for inspection and copying during regular business hours in the Commission's Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via e-mail qualexint @aol.com.

List of Subjects in 47 CFR Part 73

Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Texas, is amended by removing Channel 279C3 at Willis and adding La Porte, Channel 279C, and by removing Channel 259A at Huntsville and adding Channel 259C3 at Willis, and by removing Channel 277C1 and adding Channel 277C2 at Nacogdoches.

3. Section 73.202(b), the Table of FM Allotments under Louisiana, is amended by removing Channel 279C1 and adding Channel 277C2 at Lake Charles.

Federal Communications Commission.
John A. Karousos,
Chief, Allocations Branch, Policy and Rules Division, Mass Media Bureau.

[FR Doc. 01-29088 Filed 11-20-01; 8:45 am]

BILLING CODE 6712-01-P